DEPARTMENT OF HEALTH AND HUMAN SERVICES

Food and Drug Administration

Contaminants and Natural Toxicants Subcommittee of the Food Advisory Committee; Notice of Meeting

AGENCY: Food and Drug Administration, HHS.

ACTION: Notice.

This notice announces a forthcoming meeting of a public advisory committee of the Food and Drug Administration (FDA). The meeting will be open to the public.

Name of Committee: Contaminants and Natural Toxicants Subcommittee of the Food Advisory Committee.

General Function of the Committee: To provide advice and recommendations to the agency on FDA's regulatory issues.

Date and Time: The meeting will be held on December 4 and 5, 2002, from 8:30 a.m. to 6 p.m.

Location: The Inn and Conference Center, University of Maryland University College, 3501 University Boulevard East, Adelphi, MD 20783, 301-985-7300.

Contact Person: Henry Kim, Center for Food Safety and Applied Nutrition (HFS-306), Food and Drug Administration, 5100 Paint Branch Pkwy., College Park, MD 20740, 301-436-2023, or FDA Advisory Committee Information Line, 1-800-741-8138 (301-443-0572 in the Washington, DC area), code 10564. Please call the Information Line for up-to-date information on this meeting.

Agenda: The subcommittee will discuss FDA's action plan for addressing the issue of acrylamide in food. An agenda for the meeting will be available on the Internet at http://www.cfsan.fda.gov/list.html and at the meeting location on the day of the meeting.

Procedure: Interested persons may present data, information, or views, orally or in writing, on issues pending before the committee. Written submissions may be made to the contact person by November 20, 2002. Oral presentations from the public will be scheduled between approximately 4:30 p.m. and 6 p.m. on December 4, 2002, on issues related to acrylamide in food. Time allotted for each presentation may be limited. Those desiring to make formal oral presentations should notify the contact person before November 20, 2002, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Henry Kim at least 7 days in advance of the meeting.

Notice of this meeting is given under the Federal Advisory Committee Act (5 U.S.C. app. 2).

Dated: November 7, 2002.
Linda Arey Skladany,
Senior Associate Commissioner for External Relations.

[FR Doc. 02-28941 Filed 11-14-02; 8:45 am]

BILLING CODE 4160-01-S